DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for the following project: Honolulu High Capacity Transit Corridor Project, City and County of Honolulu Department of Transportation Services, Honolulu, HI. The purpose of this notice is to announce publicly the environmental decisions by FTA on the subject project and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before July 25, 2011.

FOR FURTHER INFORMATION CONTACT: Katie Grasty, Environmental Protection Specialist, Office of Planning and Environment, 202-366-9139, or Christopher Van Wyk, Attorney-Advisor, Office of Chief Counsel, 202-366-1733. FTA is located at 1200 New Jersey Avenue, SE., Washington, DC 20590. Office hours are from 9 a.m. to 5:30 p.m., EST, Monday through Friday, except Federal holidays.

SUPPLEMENTARY INFORMATION: Notice is hereby given that FTA has taken final agency actions by issuing certain approvals for the public transportation project listed below. The actions on this project, as well as the laws under which such actions were taken, are described in the documentation issued in connection with the project to comply with the National Environmental Policy Act (NEPA) and in other documents in the FTA administrative record for the project. Interested parties may contact either the project sponsor or the relevant FTA Regional Office for more information on the project. Contact information for FTA's Regional Offices may be found at http://www.fta.dot.gov.

This notice applies to all FTA decisions on the listed project as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The project and actions that are the subject of this notice are:

Project name and location: Honolulu High Capacity Transit Corridor Project, Honolulu, HI. Project sponsor: City and County of Honolulu Department of Transportation Services. Project description: The project includes the construction and operation of an elevated steel-wheel-on-steel-rail fixed guideway system that extends near University of Hawai'i West O'ahu, proceeds via Farrington Highway and Kamehameha Highway to Aolele Street serving the Airport, to Dillingham Boulevard, to Nimitz Highway, to Halekauwila Street, and ending at the Ala Moana Center in Downtown Honolulu. The total project length is approximately 20 miles and would include the construction of 21 stations, a vehicle maintenance and storage facility, transit centers, park-and-ride lots, traction power substations, and an access ramp from the H-2 Freeway to the Pearl Highlands park-and-ride. Final agency actions: Section 4(f) determination; Section 106 Programmatic Agreement; Section 7 Not Likely to Adversely Affect Endangered Species finding; and a Record of Decision dated January 2011. Supporting documentation: Final Environmental Impact Statement dated June 2010.

Issued on: January 19, 2011.
Elizabeth S. Riklin,
Deputy Associate Administrator for Planning and Environment, Washington, DC.

[FR Doc. 2011-1365 Filed 1-21-11; 8:45 am]

BILLING CODE P